FEDERAL MARITIME COMMISSION

46 CFR Parts 501 and 535

[Docket No. 16-04]

RIN 3072-AC54

Ocean Common Carrier and Marine Terminal Operator Agreements Subject to the Shipping Act of 1984

AGENCY: Federal Maritime Commission.

ACTION: Proposed rule; withdrawal.

SUMMARY: The Federal Maritime Commission published a Notice of Proposed Rulemaking on August 15, 2016, which set forth proposed modifications to its rules governing agreements by or among ocean common carriers and/or marine terminal operators subject to the Shipping Act of 1984 and its rules on the delegation of authority to and redelegation of authority by the Director, Bureau of Trade Analysis. Public comments on the proposed rule were due on October 17, 2016. This notice withdraws the previous Notice of Proposed Rulemaking, and terminates this rulemaking proceeding.

DATES: The NPRM published in the Federal Register on August 15, 2016 at 81 FR 53986, is withdrawn as of October 9, 2019.

FOR FURTHER INFORMATION CONTACT:

For procedural questions, contact: Rachel E. Dickon, Secretary, Phone: (202) 523-5725, Email: secretary@fmc.gov.

For technical issues, contact: Florence A. Carr, Director, Bureau of Trade Analysis, Phone: (202) 523-5796, Email: tradeanalysis@fmc.gov.

For legal issues, contact: Tyler J. Wood, General Counsel, Phone: (202) 523-5740, Email: generalcounsel@fmc.gov.

SUPPLEMENTARY INFORMATION:

I. Introduction

The Federal Maritime Commission (Commission) issued a Notice of Proposed Rulemaking (NPRM) to obtain public comments on proposed modifications to its regulations in 46 CFR part 535, Ocean Common Carrier and Marine Terminal Operator Agreements Subject to the Shipping Act of 1984, and 46 CFR 501.27, Delegation to and redelegation by the Director, Bureau of Trade Analysis. 81 FR 53986 (Aug. 15, 2016). The NPRM addressed comments submitted in response to the Commission's Advanced Notice of Proposed Rulemaking (ANPRM), 81 FR 10188 (Feb. 29, 2016), and requested further comments on the proposed modifications to its regulations.

The rulemaking was issued pursuant to Executive Order 13579 (E.O. 13579), Regulation and Independent Regulatory Agencies (July 11, 2011), and the Commission's corresponding Plan for the Retrospective Review of Existing Rules.¹ Under this plan, the Commission requested and received comments on how to improve its existing regulations and programs. With respect to part 535, comments with specific recommendations on regulatory modifications were submitted by ocean carrier members of major discussion agreements effective under the Shipping Act.² This rulemaking was also consistent with more recent Executive Orders, as it sought to modify Part 535 to remove outdated, ineffective, or unnecessary regulations.³

¹ The Commission's Plan for the Retrospective Review of Existing Rules (Nov. 4, 2011) and Update to Plan for Retrospective Review of Existing Rules (Feb. 13, 2013) are published on the FMC home page under About the FMC/Report, Strategies, and Budget.

² Comments of Ocean Common Carriers to Retrospective Review of Existing Rules, dated May 18, 2012, are published on the FMC home page under https://www2.fmc.gov/readingroom/proceeding/16-04/.

³ See, e.g., Executive Order 13771, Reducing Regulation and Controlling Regulatory Costs (Jan. 30, 2017 and Executive Order 13777, Enforcing the Regulatory Reform Agenda (Feb. 24, 2017).

II. Procedural History and Intervening Change in Law

After the Commission instituted this rulemaking process and received comment, Congress enacted the Frank LoBiondo Coast Guard Authorization Act of 2018. Public Law 115-282 (Dec. 4, 2018). In the LoBiondo Act, Congress amended certain provisions of the Shipping Act of 1984, including several provisions relating to the statutory basis for Part 535. In light of the intervening change in law, the Commission has determined to withdraw the previous NPRM, and terminate this rulemaking proceeding. In the future, the Commission may determine to reevaluate part 535, and would seek comments on the statutory amendments to the Shipping Act.

By the Commission.
Rachel Dickon,
Secretary.

[FR Doc. 2019-22063 Filed 10-8-19; 8:45 am]

BILLING CODE 6731-AA-P